DEPARTMENT OF LABOR

Employment and Training Administration

[TA-W-39,247]

Arc Mills Corporation, New York, New York; Notice of Termination of Investigation

Pursuant to section 221 of the Trade Act of 1974, an investigation was initiated on May 14, 2001, in response to a petition which was filed by the company on behalf of workers at Arc Mills Corporation, New York, New York.

The subject firm requested that the petition be withdrawn. Consequently, further investigation in this case would serve no purpose, and the investigation has been terminated.

Signed at Washington, DC, this 13th day of September 2001.
Linda G. Poole,
Certifying Officer, Division of Trade Adjustment Assistance.

[FR Doc. 01-23539 Filed 9-20-01; 8:45 am]

BILLING CODE 4510-30-M